DEPARTMENT OF LABOR

Employment and Training Administration

[TA-W-60,206; TA-W-60,206A]

Kentucky Derby Hosiery Company, Inc. Currently Known as Kentucky Derby Hosiery/Gildan Plant 6 Also Known as Lynne Plant and Plant 7 Also Known as Forest Drive Plant Including On-Site Leased Workers of Ablest Staffing and Randstand Temporary Services; Including On-Site Leased Workers of Ablest Staffing and Randstand Temporary Services; Mount Airy, NC; Amended Certification Regarding Eligibility To Apply for Worker Adjustment Assistance and Alternative Trade Adjustment Assistance

In accordance with Section 223 of the Trade Act of 1974 (19 U.S.C 2273), and Section 246 of the Trade Act of 1974 (26 U.S.C 2813), as amended, the Department of Labor issued a Certification of Eligibility to Apply for Worker Adjustment Assistance and Alternative Trade Adjustment Assistance on October 25, 2006, applicable to workers of Kentucky Derby Hosiery Company, Inc., Plant 6, also known as Lynne Plant, Mount Airy, North Carolina and Kentucky Derby Hosiery Company, Inc., Plant 7, also known as Forest Drive Plant, including on-site leased workers from Ablest Staffing and Randstand Temporary Services, Mount Airy, North Carolina. The notice was published in the Federal Register on November 16, 2006 (71 FR 66799).

At the request of a company official, the Department reviewed the certification for workers of the subject firm. The workers produce socks.

New information shows that Gildan purchased the Kentucky Derby Hosiery Company, Inc. on December 1, 2006. The subject firm is currently known as Kentucky Derby Hosiery/Gildan, Plant 6, also known as Lynne Plant, and Plant 7, also known as Forest Drive Plant, Mount Airy, North Carolina.

Workers separated from employment at Plant 6 and Plant 7 of the subject firm have their wages reported under a separate unemployment insurance (UI) tax account for Kentucky Derby Hosiery/Gildan.

Accordingly, the Department is amending the certification to properly reflect this matter.

The intent of the Department's certification is to include all workers of Kentucky Derby Hosiery Company, Inc., Plant 6, also known as Lynne Plant and Plant 7, also known as Forest Drive Plant, who were adversely affected by a shift in production to the Dominican Republic, Costa Rica and Honduras.

The amended notice applicable to TA-W-60,206 and TA-W-60,206A are hereby issued as follows:

All workers of Kentucky Derby Hosiery Company, Inc., currently known as Kentucky Derby Hosiery/Gildan, Plant 6, also known as Lynne Plant, Mount Airy, North Carolina (TA-W-60,206) and Kentucky Derby Hosiery Company, Inc., currently known as Kentucky Derby Hosiery/Gildan, Plant 7, also known as Forest Drive Plant, including on-site leased workers from Ablest Staffing and Randstand Temporary Staffing, Mount Airy, North Carolina (TA-W-60,206A), who became totally or partially separated from employment on or after October 2, 2005, through October 25, 2008, are eligible to apply for adjustment assistance under Section 223 of the Trade Act of 1974, and are also eligible to apply for alternative trade adjustment assistance under Section 246 of the Trade Act of 1974.

Signed at Washington, DC this 12th day of December 2006.
Linda G. Poole,
Certifying Officer, Division, of Trade Adjustment Assistance.

[FR Doc. E6-21787 Filed 12-20-06; 8:45 am]

BILLING CODE 4510-30-P